DEPARTMENT OF HEALTH AND HUMAN SERVICES

Centers for Disease Control and Prevention

[Docket No. CDC-2020-0077; Docket No. NIOSH 338]

Advisory Board on Radiation and Worker Health (ABRWH), National Institute for Occupational Safety and Health (NIOSH); Correction

Notice is hereby given of a change in the meeting of the Advisory Board on Radiation and Worker Health (ABRWH), NIOSH; August 26, 2020 from 1:15 p.m. to 6:15 p.m., EDT and August 27, 2020 from 1:15 p.m. to 6:30 p.m., EDT, which was published in the Federal Register on July 14, 2020, Volume 85, Number 134, pages 41986-41987.

The Matters to be Considered should read as follows:

Matters to be Considered: The agenda will include discussions on the following: NIOSH Program Update; Department of Labor Program Update; Department of Energy Program Update; SEC Petitions Update; Completed Site Profile Review for W.R Grace Company (Erwin, Tennessee); Update on Site Profile Review for Idaho National Laboratory Site (Burial Ground and other Exposure Scenarios), and Hanford (Richland, Washington); SEC Petition Reviews for Superior Steel (Carnegie, Pennsylvania; 1952-1957), and Reduction Pilot Plant (Huntington, West Virginia; 1976-1978), and a Board Work Session. Agenda items are subject to change as priorities dictate.

FOR FURTHER INFORMATION CONTACT: Rashaun Roberts, Ph.D., Designated Federal Officer, NIOSH, CDC, 1090 Tusculum Avenue, Mailstop C-24, Cincinnati, Ohio 45226, Telephone (513) 533-6800, Toll Free 1(800)CDC-INFO, Email ocas@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-16551 Filed 7-30-20; 8:45 am]

BILLING CODE 4163-18-P